INTERNATIONAL TRADE COMMISSION

[USITC SE-15-040]

Government in the Sunshine Act Meeting Notice

Agency Holding The Meeting: United States International Trade Commission.

Time and Date: December 2, 2015 at 11:00 a.m.

Place: Room 101, 500 E Street SW., Washington, DC 20436, Telephone: (202) 205-2000.

Status: Open to the public.

Matters To Be Considered: 1. Agendas for future meetings: none.

2. Minutes.

3. Ratification List.

4. Vote in Inv. Nos. 701-TA-526-527 and 731-TA-1262-1263 (Final)(Melamine from China and Trinidad and Tobago). The Commission is currently scheduled to complete and file its determinations and views of the Commission on December 16, 2015.

5. Outstanding action jackets: none.

In accordance with Commission policy, subject matter listed above, not disposed of at the scheduled meeting, may be carried over to the agenda of the following meeting.

By order of the Commission:
Issued: November 23, 2015.
William R. Bishop,
Supervisory Hearings and Information Officer.

[FR Doc. 2015-30275 Filed 11-24-15; 11:15 am]

BILLING CODE 7020-02-P